DEPARTMENT OF TRANSPORTATION

Federal Aviation Administration

[Docket No. FAA-2020-0926]

Agency Information Collection Activities: Requests for Comments; Clearance of a Renewed Approval of Information Collection: Notice of Proposed Outdoor Laser Operation(s)

AGENCY: Federal Aviation Administration (FAA), DOT.

ACTION: Notice and request for comments.

SUMMARY: In accordance with the Paperwork Reduction Act of 1995, FAA invites public comments about our intention to request the Office of Management and Budget (OMB) approval to renew an information collection. The collection involves the gathering of information necessary for the FAA to ensure proposed outdoor laser operations will not interfere with air traffic operations. The information to be collected will be used to and/or is necessary because the FAA must evaluate proposed outdoor laser operations requiring a Food and Drug Administration (FDA) variance from a laser light show, display, or device.

DATES: Written comments should be submitted by March 30, 2021.

ADDRESSES: Please send written comments:

By Electronic Docket: www.regulations.gov (Enter docket number into search field).

By mail: 800 Independence Ave. SW, Washington, DC 20591, ATTN: Manager, Airspace Rules and Regulations, AJV-P21.

By fax: 202-267-9328.

FOR FURTHER INFORMATION CONTACT: Brian Konie by email at: brian.konie@faa.gov; phone: 202-267-8783.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0662.

Title: Notice of Proposed Outdoor Laser Operation(s).

Form Numbers: FAA Form 7140-1.

Type of Review: Renewal of an information collection.

Background: No laser light show, projection system, or device may vary from compliance with 21 CFR 1040.11(c) in design or use without the approval of an application for variance in accordance with 21 CFR 1010.4 using FDA Form 3147. In order to obtain a variance from 21 CFR 1040.11(c) for a laser light show, display, or device (as described on FDA Form 3147); advance written notification must be made as early as possible to appropriate federal, state, and local authorities providing show itinerary with dates and locations clearly and completely identified, and a basic description of the proposed effects including a statement of the maximum power output intended. Such notifications must be made, but not necessarily be limited, to the FAA for any projections into open airspace at any time (i.e., including set up, alignment, rehearsals, performances, etc.). If the FAA objects to any laser effects, the objections will be resolved and any conditions requested by FAA will be adhered to. If these conditions cannot be met, the objectionable effects will be deleted from the show.

FAA Advisory Circular (AC) 70-1A, Outdoor Laser Operations, provides information for those proponents planning to conduct outdoor laser operations that may affect aircraft operations in the United States (U.S.) National Airspace System (NAS). In addition, FAA AC 70-1A explains the necessity to notify the FAA, how to notify the FAA of the planned laser operation, and any action the FAA will take to respond to such notifications. Furthermore, AC 70-1A includes instructions for completing the requisite FAA Form 7140-1, Notice of Proposed Outdoor Laser Operation(s).

Respondents: Approximately 603 laser operations.

Frequency: One time per laser operation.

Estimated Average Burden per Response: Approximately four hours per form.

Estimated Total Annual Burden: Approximately 2,412 hours.

Issued in Washington, DC, on January 22, 2021.
Natasha A. Durkins,
Director, Policy, AJV-P, Air Traffic Organization.

[FR Doc. 2021-01932 Filed 1-28-21; 8:45 am]

BILLING CODE 4910-13-P